ENVIRONMENTAL PROTECTION AGENCY

[FRL-9682-1]

Meetings of the National Drinking Water Advisory Council—Notice of Public Meetings

AGENCY: Environmental Protection Agency.

ACTION: Notice of a public webinar/conference call and a public meeting.

SUMMARY: The U.S. Environmental Protection Agency (EPA or agency) is announcing one public webinar/conference call and one in-person meeting of the National Drinking Water Advisory Council (NDWAC or Council), established under the Safe Drinking Water Act (SDWA). The Council will consider various issues associated with drinking water protection and public water systems. For the webinar/conference call, the Council will discuss a draft guidance for EPA permit writers relative to hydraulic fracturing using diesel fuels under the SDWA's Underground Injection Control (UIC) Program and also options for assisting small water systems in achieving sustainable practices. For the in-person meeting, the primary focus will be for the Council to discuss the proposed regulation of perchlorate under the SDWA. Also at this in-person meeting, the Council will discuss assistance to small water systems among other program issues.

DATES: The webinar/conference call will be held on Wednesday, June 27, 2012, from 1:00 p.m. to 4:30 p.m., Eastern Time, and the in-person meeting will be held on September 12, 2012, from 8:30 a.m. to 5:00 p.m., Central Time, and September 13 from 8:30 a.m. to 3:00 p.m., Central Time.

ADDRESSES: The webinar/conference call will be available through Internet access. Instructions for attending will be available to anyone who requests to attend (see FOR FURTHER INFORMATION CONTACT section for procedures for making the request). The in-person meeting on September 12 and 13, 2012, will be held at the EPA's Chicago Regional Office (EPA Region 5) at the Ralph Metcalfe Federal Building, 77 West Jackson Blvd., Chicago, IL 60604-3590 and will also be open to the public.

FOR FURTHER INFORMATION CONTACT: Members of the public who would like to register and receive pertinent information, present an oral statement or submit a written statement for the June 27 webinar/conference call should contact Roy Simon, by email, Simon.Roy@epa.gov, by phone, 202-564-3868, or by regular mail at U.S. Environmental Protection Agency, Office of Ground Water and Drinking Water (MC 4601M), 1200 Pennsylvania Avenue NW., Washington, DC 20460. Similarly, those members of the public who would like to register and receive information, present an oral statement, or submit a written statement for the September 13 and 14 in-person meeting should contact Roy Simon. Further details about participating in the webinar and the in-person meeting can be found in the SUPPLEMENTARY INFORMATION section.

SUPPLEMENTARY INFORMATION: Details about Participating in the Webinar: If you wish to attend the webinar, you can read the presentations only if you provide your email address when you register. If you do not have an email address and would like to attend by phone only, please provide your address so you can be notified by mail of the call-in number. The EPA will provide updated information on the September in-person meeting to registered individuals and organizations as the date of the meeting gets closer.

The Council encourages the public's input and will allocate 30 minutes in the webinar on June 27, 2012 (3:55-4:25 p.m., Eastern Time). Similarly, the Council will allocate one hour for the public's input (1:00 p.m.- 2:00 p.m., Central Time) at the in-person meeting on September 13, 2012. Oral statements will be limited to three minutes during the webinar and five minutes at the meeting. It is preferred that only one person present the statement on behalf of a group or organization.

To ensure adequate time for public involvement, individuals or organizations interested in presenting an oral statement should notify Roy Simon no later than June 22, 2012, for the webinar, and September 6, 2012, for the in-person meeting. Any person who wishes to file a written statement can do so before or after a Council meeting. Written statements for the Webinar received by June 22, 2012, and for the in-person meeting received by August 31, 2012, will be distributed to all members of the Council before any final discussion or vote is completed. Any statements received on or after the dates just specified for the webinar and the in-person meeting will become part of the permanent file for each meeting, respectively, and will be forwarded to the Council members for their information.

National Drinking Water Advisory Council: The Council was created by Congress on December 16, 1974, as part of the Safe Drinking Water Act (SDWA) of 1974, Public Law 93-523, 42 U.S.C. 300j-5, and is operated in accordance with the provisions of the Federal Advisory Committee Act (FACA), 5 U.S.C. App.2. The Council was established under the SDWA to provide practical and independent advice, consultation and recommendations to the EPA Administrator on the activities, functions, policies, and regulations required by the SDWA.

Special Accommodations: For information on access or services for individuals with disabilities, please contact Roy Simon at 202-564-3868 or by email at Simon.Roy@epa.gov. To request accommodation of a disability, please contact Roy Simon at least 10 days prior to the webinar or the meeting to give EPA as much time as possible to process your request.

Dated: June 1, 2012.
Pamela Barr,
Acting Director, Office of Ground Water and Drinking Water.

[FR Doc. 2012-13822 Filed 6-8-12; 8:45 am]

BILLING CODE 6560-50-P